DEPARTMENT OF TRANSPORTATION

National Highway Traffic Safety Administration

[Docket No. NHTSA-2008-0016, Notice 1]

NHTSA's Activities Under the United Nations Economic Commission for Europe 1998 Global Agreement: Head Restraints

AGENCY: National Highway Traffic Safety Administration (NHTSA), Department of Transportation.

ACTION: Request for comments.

SUMMARY: NHTSA is publishing this notice to inform the public that there may be a vote to adopt the Global Technical Regulation (GTR) on Head Restraints at the March 2008 session of the World Forum for Harmonization of Vehicle Regulations (WP.29). In anticipation of this vote, NHTSA is requesting comments on this GTR to inform its decision for the vote. Publication of this information is in accordance with NHTSA's Statement of Policy regarding Agency Policy Goals and Public Participation in the Implementation of the 1998 Global Agreement on Global Technical Regulations.

DATES: Written comments may be submitted to this agency by March 6, 2008.

ADDRESSES: You may submit comments [identified by DOT Docket No. NHTSA-2008-0016, Notice 1] by any of the following methods:

• Federal eRulemaking Portal: Go to http://www.regulations.gov. Follow the online instructions for submitting comments.

• Mail: Docket Management Facility: U.S. Department of Transportation, 1200 New Jersey Avenue, SE., West Building Ground Floor, Room W12-140, Washington, DC 20590-0001.

• Hand Delivery or Courier: West Building Ground Floor, Room W12-140, 1200 New Jersey Avenue, SE., between 9 a.m. and 5 p.m. ET, Monday through Friday, except Federal holidays. Telephone: 1-800-647-5527.

• Fax: 202-493-2251.

Instructions: All submissions must include the agency name and docket number for this proposed collection of information. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://DocketInfo.dot.gov.

Docket: For access to the docket to read background documents or comments received, go to http://www.regulations.gov and follow the online instructions, or visit the Docket Management Facility at the street address listed above.

FOR FURTHER INFORMATION CONTACT: Mr. Ezana Wondimneh, Chief, International Policy and Harmonization (NVS-133), National Highway Traffic Safety Administration, 1200 New Jersey Avenue, SE., Washington, DC 20590-0001; Phone: 202-366-2117, Fax: 202-493-2990.

SUPPLEMENTARY INFORMATION: On December 14, 2004, NHTSA published a final rule upgrading Federal Motor Vehicle Safety Standard (FMVSS) No. 202, “Head Restraints.” (64 FR 74847) In upgrading the existing FMVSS, NHTSA adopted into the FMVSS many of the requirements which already existed in the head restraint regulation of the United Nations Economic Commission for Europe (UNECE), and which provided improved safety over then existing FMVSS. However, in instances where opportunities existed to achieve increased safety in a cost effective manner or to better enforce our standard, the agency went beyond or took an approach different from that in the UNECE regulation. One important area in which the FMVSS achieved increased safety over the current UNECE regulation was in the addition of a backset requirement (the distance between the head restraint and the back of the head) to reduce whiplash injuries.

In anticipation of these differences between the FMVSS and the UNECE regulation, in its October 8, 2004 notice on the status of NHTSA's participation under the 1998 Agreement (69 FR 60460), NHTSA sought comments on whether the U.S. should sponsor a GTR on head restraints. NHTSA thought that a GTR in this area would not be difficult to achieve given the level of harmonization that already existed between the U.S. and UNECE regulations. In addition, NHTSA believed that much would be gained from such an effort worldwide. The GTR will incorporate the newly adopted backset requirements from the U.S. regulation, thus improving safety in countries that do not have a backset requirement. The GTR will also harmonize any remaining differences between the UNECE regulation and the FMVSS, creating a common regulatory framework and paving the way for future cooperation in the area of rear impact and whiplash injury reduction. No comments were received from the U.S. public objecting to NHTSA's sponsorship and pursuit of this GTR. Many countries participating in the United Nations' process under the 1998 Agreement also welcomed the U.S. leadership. Since whiplash injuries are not unique to the United States, countries around the world had strong incentive to cooperate in order to address the social and economic impacts of these injuries.

During the November 2004 meeting of WP.29, NHTSA gained the approval of the Executive Committee of the 1998 Global Agreement (AC.3) to begin the development of a Head Restraints GTR. The proposal was referred to the Working Party on Passive Safety (GRSP). In February 2005, the GRSP formed an informal working group, chaired by the United States, to develop the GTR.

In developing and drafting the new GTR, the working group combined elements from UNECE Regulations Nos. 17 and 25, and the newly upgraded FMVSS No. 202. The group also reviewed new research which led to the inclusion of requirements not contained in the previously mentioned regulations and discussed areas of further research which could be addressed in a second phase to this GTR. In an October 10, 2006 (71 FR 59582) notice, NHTSA described the interim progress on the head restraint GTR and sought comments. NHTSA did not receive comments. The informal working group has completed drafting the GTR, and at the December 2007 session of GRSP the GTR was recommended to WP.29/AC.3 for a vote at its March 2008 Session.

The U.S. successfully argued for the inclusion of a backset requirement in the GTR. The backset requirement and measurement procedure in the GTR are as specified in FMVSS No. 202. The Group of Experts studied and evaluated the extent to which the choice of reference point has an impact on the level of stringency. The two reference points in question are H-point, which is the actual hip point of the dummy sitting in the seat, and the R-point, which is the theoretical hip point of the dummy that manufacturers use when designing a vehicle. The R-point is the same as the seating reference point (SgRP) when the seat is set in the rearmost seating position. Both have been used in U.S. regulations. Currently, the FMVSS No. 202 relies on the H-point, while the UNECE regulation relies on the R-point. The group of experts found that for the backset measurement, the choice of reference point does have an impact on stringency. To that end, they sought to determine an equivalent limit between the two reference points. The group found that requirements with the R-point should be 45 mm to provide equivalent stringency as the 55 mm requirement when using the H-point. The GTR provides the flexibility for contracting parties to decide on the reference point provided that they make the necessary adjustments to the requirements to make them equivalent. Contracting parties choosing the H-point requirement will use the 55 mm backset requirement while those opting for R-point will use the 45 mm requirement. Since H-point and the 55 mm backset requirement have been established in the U.S. regulation and it is the preferred option in the GTR, NHTSA will continue to require it. However, with respect to all other measurements, the group of experts found that the reference point should not impact stringency and therefore, it was agreed that the R-point should be specified in the GTR. Providing that cost-benefit analysis confirms that there will be no impact on benefits in the U.S., the U.S. will propose using R-point in its compliance testing for all measurements other than backset.

The agency believes that this GTR will improve the current U.S. regulation and provide significant benefits in other countries which adopt this GTR, due to the backset requirement. This GTR also harmonizes all existing international regulations on head restraints, creating a common regulatory base to which further harmonized improvements could be added. The European Union and Japan have been conducting extensive research in the area of rear impact, particularly as it pertains to more biofidelic anthropomorphic dummies. WP.29 has already approved the concept of a Phase 2 for head restraints to consider this research. Working from common regulatory requirements, the U.S. believes there will be the possibility of preventing more whiplash injuries in the future, looking at the seat and the head restraint as a system.

The GTR is expected to be voted on at the March 2008 session of WP.29 and AC.3. In anticipation of this vote, NHTSA is again requesting comments on this GTR. Once the GTR is established through consensus voting at WP.29, NHTSA will initiate domestic rulemaking to amend its existing FMVSS to incorporate approved provisions of the GTR. This will allow for further opportunity to consider comments from interested parties through the usual rulemaking process. If NHTSA's rulemaking process leads it to either not adopt or to modify aspects of the GTR, the agency will seek to amend the GTR in accordance with established procedures under the 1998 Global Agreement and WP.29, as it recently did with the door lock GTR.

Issued on: February 5, 2008.
Stephen R. Kratzke,
Associate Administrator for Rulemaking.

[FR Doc. E8-2521 Filed 2-13-08; 8:45 am]

BILLING CODE 4910-59-P